DEPARTMENT OF COMMERCE

International Trade Administration

[A-588-865]

Postponement of Preliminary Determination of Antidumping Duty Investigation: Outboard Engines From Japan

AGENCY: Import Administration, International Trade Administration, Department of Commerce.

SUMMARY: The Department of Commerce (the Department) is postponing the preliminary determination in the antidumping duty investigation of outboard engines from Japan until no later than August 5, 2004. This postponement is made pursuant to section 733(c)(1)(B) of the Tariff Act of 1930, as amended (the Act).

EFFECTIVE DATE: June 30, 2004.

FOR FURTHER INFORMATION CONTACT: James Kemp at (202) 482-5346 or Shane Subler at (202) 482-0189, Import Administration, International Trade Administration, U.S. Department of Commerce, 14th Street and Constitution Avenue, NW., Washington, DC 20230.

SUPPLEMENTARY INFORMATION:

Postponement of Due Date for Preliminary Determination

On January 28, 2004, the Department initiated an antidumping duty investigation of outboard engines from Japan. See Notice of Initiation of Antidumping Duty Investigation: Outboard Engines from Japan, 69 FR 5316 (February 4, 2004). Section 733(b) of the Act requires the Department to make a preliminary determination no later than 140 days after the date of initiation. On April 30, 2004, the petitioner ¹ made a timely request pursuant to 19 CFR 351.205(e) for a 30-day postponement of the preliminary determination until July 16, 2004. The Department granted this request in full. See Postponement of Preliminary Determination of Antidumping Duty Investigation: Outboard Engines from Japan, 69 FR 29922 (May 26, 2004).

¹ The petitioner in this investigation is Mercury Marine, a division of Brunswick Corporation.

On June 22, 2004, the petitioner made an additional request to extend the preliminary deadline 20 days beyond the July 16 deadline. The petitioner requested this postponement of the preliminary determination because it believes additional time is necessary to allow it and the Department to analyze fully the respondent's ² supplemental questionnaire responses and other materials submitted in this investigation. The respondent's supplemental questionnaire responses are due on July 6, 2004. The 20-day extension will provide the petitioner and the Department with this additional time.

² The respondent in this investigation is Yamaha Motor Company, Ltd., Yamaha Marine Company, Ltd., and Yamaha Motor Corporation, U.S.A. (collectively Yamaha).

For the reasons identified by the petitioner, and because there are no compelling reasons to deny the request, we are postponing the preliminary determination under section 733(c)(1)(A) of the Act. Therefore, the preliminary determination is now due no later than August 5, 2004. The deadline for the final determination will continue to be 75 days after the date of the preliminary determination. This notice is issued and published pursuant to sections 733(f) and 777(i) of the Act.

Dated: June 24, 2004.
Jeffrey May,
Deputy Assistant Secretary for Import Administration, Group I.

[FR Doc. 04-14855 Filed 6-29-04; 8:45 am]

BILLING CODE 3510-DS-P